DEPARTMENT OF ENERGY

[Certification Notice—209]

Office of Fossil Energy; Notice of Filings of Coal Capability Powerplant and Industrial Fuel Use Act

AGENCY: Office of Fossil Energy, DOE.

ACTION: Notice of filings.

SUMMARY: The owners/operators of 10 baseload electric powerplants have submitted coal capability self-certifications pursuant to section 201(d) of the Powerplant and Industrial Fuel Use Act of 1978, as amended, in accordance with 10 CFR 501.60, 61.

ADDRESSES: Copies of self-certification filings are available for public inspection, upon request, in the Office of Coal & Power Import/Export, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load electric powerplant, that such powerplant has the capability to use coal or another alternate fuel. Such certification establishes compliance with section 201(a) as of the date filed with the Department of Energy (DOE). The Secretary is required to publish a notice in the Federal Register that a certification has been filed. The following owners/operators of proposed new baseload electric powerplants have filed self-certifications pursuant to section 201(d) and in accordance with DOE regulations in 10 CFR 501.60, 61.

Owner/operator | Capacity | Plant location | In-service date
Los Esteros Critical Energy Facility | 180 MW | Santa Clara Cnty, CA | 4th Qrt. 2002
Ocean Peaking Power | 500 MW | Lakewood, NJ | January 2003
Reliant Energy Choctaw Cnty Facility | 804 MW | Choctaw County, MS | June 1, 2003
Genova Arkansas I | 550 MW | Tontitown, AR | January 2005
Genova Oklahoma I | 550 MW | Chickasha, OK | January 2005
Beatrice Power Station | 250 MW | Gage County, NE | March 2005
Black Rock Facility | 62 MW | Buffalo, NY | 2nd Qtr. 2003
Blythe Energy Project | 520 MW | Blythe, CA | December 2002
Acadia Power Project | 1,200 MW | Acadia Parish, LA | May 2002
Wolfskill Energy Center | 45 MW | Solano Cnty, CA | 1st Qtr. 2003

Issued in Washington, DC, on October 28, 2002.
Anthony J. Como,
Deputy Director, Electric Power Regulation, Office of Coal & Power Import/Export, Office of Coal & Power Systems, Office of Fossil Energy.

[FR Doc. 02-27986 Filed 11-1-02; 8:45 am]

BILLING CODE 6450-01-P